DEPARTMENT OF AGRICULTURE

Rural Utilities Service

Golden Valley Electric Association: Healy Power Plant Unit #2 Restart

AGENCY: Rural Utilities Service, USDA.

ACTION: Notice of availability of a Record of Decision.

SUMMARY: The Rural Utilities Service (RUS) has issued a Record of Decision (ROD) for the Supplemental Final Environmental Impact Statement (SFEIS) related to RUS's consideration of potential agency actions that would facilitate a proposal from Golden Valley Electric Association, Inc. (GVEA) for the restart and commercial operation of Healy Unit #2, a power generation facility at the Healy Power Plant (Healy Plant) in Healy, Alaska. The SFEIS was prepared in accordance with the National Environmental Policy act of 1969 (NEPA) (42 U.S.C. 4321 et seq.), the Council on Environmental Quality's (CEQ's) regulations implementing NEPA (40 CFR parts 1500-1508), and RUS's Environmental Policies and Procedures (7 CFR part 1794). The SFEIS updated a Final Environmental Impact Statement (FEIS) prepared by the Department of Energy (DOE) in 1993.

ADDRESSES: To obtain copies of the ROD or for further information, contact: Deirdre M. Remley, Environmental Protection Specialist, RUS, Water and Environmental Programs, Engineering and Environmental Staff, 1400 Independence Avenue SW., Stop 1571, Washington, DC 20250-1571, Telephone: (202) 720-9640 or email: deirdre.remley@wdc.usda.gov. The ROD is also available at RUS's Web site at http://www.rurdev.usda.gov/UWP-HealyPowerPlan.html or you may contact Ms. Remley for a hard copy.

SUPPLEMENTARY INFORMATION: Healy Unit #2 is currently owned by the Alaska Industrial and Export Authority (AIDEA), but is located on GVEA land. Unit #2 was built to work in conjunction with Healy Unit #1, a generation unit that has been owned and operated by GVEA since 1967. Unit #2 is currently in warm layup and has not generated power since 2000. GVEA proposes to purchase Unit #2, prepare it for commercial production, and operate the unit for the remainder of its operational life. GVEA is seeking administrative actions and financing from RUS to facilitate the restart of Unit #2 and for improvements to the Healy Plant, which include installing additional emissions control to both Unit #1 and Unit #2. Unit #1 is a 25 MW coal-fired boiler and Unit #2 is a 50 MW coal-fired boiler that was constructed in the late 1990s with funding from DOE and AIDEA.

The decision documented in RUS's ROD is that RUS agrees to consider, subject to additional engineering and financial review, administrative actions and financing that would facilitate GVEA's restart of Unit #2 at the Healy Power Plant. Details regarding RUS' regulatory authority, rationale for the decision, and compliance with applicable regulations are included in the ROD.

RUS published an NOI in the Federal Register on January 3, 2013, which described the Proposed Action (78 FR 285). RUS published a notice in the Federal Register on June 10, 2013 announcing the availability of the SFEIS and initiating the 30-day public comment period for the SFEIS (78 FR 34639). A copy of the SFEIS was sent to the U.S. Environmental Protection Agency for review and comment. Two comments were received on the SFEIS and they are addressed in the ROD.

RUS has considered and concurred with GVEA's purpose and need for the proposal to restart Unit #2, and RUS has evaluated the potential impacts of this proposal on the human environment and finds that the SFEIS is consistent with Federal regulations and meets the standard for an adequate statement. The Proposed Action to facilitate the restart of Unit #2 of the Healy Plant is RUS's selected alternative.

Dated: November 11, 2013.
John Charles Padalino,
Administrator, USDA, Rural Utilities Service.

[FR Doc. 2013-27655 Filed 11-18-13; 8:45 am]

BILLING CODE P